DEPARTMENT OF THE INTERIOR

Bureau of Indian Affairs

Indian Gaming

AGENCY: Bureau of Indian Affairs, Interior.

ACTION: Notice of Approved Tribal-State Compact.

SUMMARY: This notice publishes approval of the compact between the Sovereign Indian Nation of the Omaha Tribe of Nebraska and the Sovereign State of Iowa.

DATES: Effective Date: March 19, 2007.

FOR FURTHER INFORMATION CONTACT: George T. Skibine, Director, Office of Indian Gaming, Office of the Deputy Assistant Secretary—Policy and Economic Development, Washington, DC 20240, (202) 219-4066.

SUPPLEMENTARY INFORMATION: Under section 11 of the Indian Gaming Regulatory Act of 1988 (IGRA), Public Law 100-497, 25 U.S.C. 2710, the Secretary of the Interior shall publish in the Federal Register notice of approved Tribal-State Compacts for the purpose of engaging in class III gaming activities on Indian lands. This compact allows for the extension of the current compact and clarifies the regulatory scheme.

Dated: March 7, 2007.
Michael D. Olsen,
Principal Deputy Assistant Secretary-Indian Affairs.

[FR Doc. E7-4904 Filed 3-16-07; 8:45 am]

BILLING CODE 4310-4N-P